DEPARTMENT OF ENERGY

Federal Energy Regulatory Commission

Notice of Alternative Dispute Resolution Workshop

December 17, 2002.

The Commission's Dispute Resolution Service (DRS) will hold a workshop on alternative dispute resolution and how it can be used during the natural gas pipeline pre-filing process. The workshop will be held on January 9, 2003, at the Airport Marriott Hotel, 18700 John F. Kennedy Blvd., Houston, Texas 77032.

The workshop will describe ADR, how ADR has been used successfully, and when ADR may be an appropriate alternative to traditional means of resolving disputes. The DRS will present information about its activities and services. The DRS will explore with the participants to the workshop what they believe their dispute resolution needs are and help identify what steps could be taken to meet those needs. The workshop will also seek comment on what the DRS could do to help parties resolve disputes at the earliest possible time and at low cost. Richard Miles and Deborah Osborne from the DRS and Douglas Sipe from the Office of Energy Projects will facilitate the workshop.

The Workshop will be held from 9 a.m. to 11:30 a.m. The DRS will be available during the afternoon to answer any questions or to discuss specific areas that the participants raise. To attend, please register by email to douglas.sipe@ferc.gov or call Douglas Sipe at (202) 502-8837. For more information on the DRS, visit the FERC Web site at http://www.ferc.gov /legal/drs/drs.htm or contact Richard Miles at (202) 502-8702 or richard.miles@ferc.gov.

Additional workshops may be held in other regions of the country if industry response to the January 9th workshop is warranted. Please contact Douglas Sipe if you have any questions or comments regard these future workshops.

Magalie R. Salas,
Secretary.

[FR Doc. 02-32207 Filed 12-20-02; 8:45 am]

BILLING CODE 6717-01-P